INTERNATIONAL TRADE COMMISSION

[Investigation Nos. 701-TA-636 and 731-TA-1470 (Final)]

Wood Mouldings and Millwork Products From China; Revised Schedule for the Subject Investigations

AGENCY: United States International Trade Commission.

ACTION: Notice.

DATES: January 13, 2021.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On August 12, 2020, the Commission established a schedule for the conduct of the final phase of the subject investigations (85 FR 54593, September 2, 2020). In light of the federal holiday on January 20, 2021, the Commission is revising the final comments deadline to no later than 10 a.m., January 21, 2021.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: January 19, 2021.
William Bishop,
Supervisory Hearings and Information Officer.

[FR Doc. 2021-01532 Filed 1-22-21; 8:45 am]

BILLING CODE 7020-02-P